DEPARTMENT OF AGRICULTURE

Submission for OMB Review; Comment Request

July 3, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Listeria Control for Ready-to-Eat Products.

OMB Control Number: 0583-0132.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq). These statutes mandate that FSIS protect the public by verifying that meat and poultry products are safe, wholesome, unadulterated, and properly labeled and packaged. FSIS is requiring that official establishments that produce certain ready-to-eat (RTE) meat and poultry products to take measures to prevent product adulteration by the pathogenic environmental contaminant Listeria monocytogenes. The regulations (9 CFR 430.4) particularly affect establishments that produce RTE meat and poultry products that are exposed to the environment after lethality treatments and that support the growth of Listeria monocytogenes. Establishments must employ one of four distinct methods found in the regulations.

Need and Use of the Information: FSIS will information from establishment's information on the production volume of RTE products affected by the regulations and the control measures used by the establishments. The establishment must also provide an estimate of production volume by product type and regulatory control method used for the upcoming year.

Description of Respondents: Business or other for-profit.

Number of Respondents: 3,590.

Frequency of Responses: Reporting: On occasion.

Total Burden Hours: 30,173.

Ruth Brown,
Departmental Information Collection Clearance Officer.

[FR Doc. E7-13317 Filed 7-9-07; 8:45 am]

BILLING CODE 3410-DM-P